DEPARTMENT OF TRANSPORTATION

National Highway Traffic Safety Administration

[Docket No. NHTSA-2011-0034]

Notice of Receipt of Petition for Decision That Nonconforming 2002 Kawasaki Ninja ZX-6R Motorcycles Are Eligible for Importation

AGENCY: National Highway Traffic Safety Administration, DOT.

ACTION: Notice of receipt of petition for decision that nonconforming 2002 Kawasaki Ninja ZX-6R motorcycles are eligible for importation.

SUMMARY: This document announces receipt by the National Highway Traffic Safety Administration (NHTSA) of a petition for a decision that 2002 Kawasaki Ninja ZX-6R motorcycles that were not originally manufactured to comply with all applicable Federal Motor Vehicle Safety Standards (FMVSS) are eligible for importation into the United States because they have safety features that comply with, or are capable of being altered to comply with, all such standards.

DATES: The closing date for comments on the petition is 30 days after publication in the Federal Register.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

How to Read Comments Submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Skytop Rover, Co. (Skytop) of Philadelphia, Pennsylvania (Registered Importer 06-343) has petitioned NHTSA to decide whether nonconforming 2002 Kawasaki Ninja ZX-6R motorcycles are eligible for importation into the United States. Skytop contends that these vehicles are eligible for importation under 49 U.S.C. 30141(a)(1)(B) because they have safety features that comply with, or are capable of being altered to comply with, all applicable FMVSS.

In its petition, Skytop described the nonconforming 2002 Kawasaki Ninja ZX-6R as the same model as the U.S.-certified 2003 Kawasaki Ninja ZX-6R. Because the Ninja ZX-6R model was introduced in countries other than the U.S. as a new model before the introduction of the U.S-certified version in 2003, the petitioner acknowledged that it could not base its petition on the substantial similarity of the 2002 Kawasaki Ninja ZX-6R to the U.S.-certified 2003 Kawasaki Ninja ZX-6R motorcycles due to the model year discrepancy and the petitioning requirements of 49 U.S.C. 30141(a)(1)(A), as set forth in 49 CFR part 593. Instead, the petitioner chose to establish import eligibility on the basis that the vehicles have safety features that comply with, or are capable of being modified to comply with, the FMVSS based on destructive test data or such other evidence that NHTSA decides to be adequate as set forth in 49 U.S.C part 30141(a)(1)(B). The petitioner contends that the 2002 Kawasaki Ninja ZX-6R utilizes the same components as the U.S.-certified 2003 Kawasaki Ninja ZX-6R motorcycles in virtually all of the systems subject to the applicable FMVSS.

Specifically, the petitioner claims that 2002 Kawasaki Ninja ZX-6R motorcycles have safety features that comply with Standard Nos. 106 Brake Hoses, 116 Motor Vehicle Brake Fluid, 119 New Pneumatic Tires for Vehicles Other than Passenger Cars, 122 Motorcycle Brake Systems, and 205 Glazing Materials.

The petitioner further contends that the vehicles are capable of being altered to comply with the following standards, in the manner indicated:

Standard No. 108 Lamps, Reflective Devices and Associated Equipment: inspection of all vehicles and replacement of the following with U.S.-certified components on vehicles not already so equipped: (a) Headlamps; (b) front and rear side-mounted reflex reflectors; (c) rear-mounted reflex reflector; (d) tail lamp assembly (including stoplamp, taillamp, and license plate lamp); and (e) front and rear turn signal lamps.

Standard No. 111 Rearview Mirrors: inspection of all vehicles and installation of U.S.-model rearview mirrors on vehicles not already so equipped.

Standard No. 120 Tire Selection and Rims for Vehicles other than Passenger Cars: installation of a tire information placard.

Standard No. 123 Motorcycle Controls and Displays: (a) installation of a U.S.-model speedometer, or modification of the speedometer so that it reads in miles per hour; and (b) installation of an ignition switch label.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: March 9, 2011.
Claude H. Harris,
Acting Associate Administrator for Enforcement.

[FR Doc. 2011-5977 Filed 3-14-11; 8:45 am]

BILLING CODE 4910-59-P